DEPARTMENT OF HEALTH AND HUMAN SERVICES

National Institutes of Health

Office of Biotechnology Activities; Office of Science Policy; Office of the Director; Notice of a Meeting of the NIH Blue Ribbon Panel

The purpose of this notice is to inform the public about a meeting of the NIH Blue Ribbon Panel to Advise on the Risk Assessment of the National Emerging Infectious Diseases Laboratories at Boston University Medical Center.

There will be a meeting of the NIH Blue Ribbon Panel to advise on the Risk Assessment of the National Emerging Infectious Diseases Laboratories (NEIDL) at Boston University Medical Center. The meeting will be held on Friday, February 12, 2010, at the Hyatt Regency Bethesda Hotel, located at 7400 Wisconsin Avenue, Bethesda, Maryland 20814, from approximately 8:30 a.m. to 2 p.m. This meeting is the second in a series of public meetings with the National Research Council to review the ongoing supplementary risk assessment study.

Sign up for public comment will begin at approximately 8 a.m. In the event that time does not allow for all those interested in presenting oral comments, anyone may file written comments using the following address below.

An agenda and slides for the meeting can be obtained prior to the meeting by connecting to http://nihblueribbonpanel-bumc-neidl.od.nih.gov/. For additional information concerning this meeting, contact Ms. Laurie Lewallen, Advisory Committee Coordinator, Office of Biotechnology Activities, Office of Science Policy, Office of the Director, National Institutes of Health, 6705 Rockledge Drive, Room 750, Bethesda, MD 20892-7985; telephone 301-496-9838; e-mail lewallenl@od.nih.gov.

Dated: January 11, 2010.
Kelly R. Fennington,
Special Assistant to the Director, Office of Biotechnology Activities, National Institutes of Health.

[FR Doc. 2010-730 Filed 1-14-10; 8:45 am]

BILLING CODE 4140-01-P